DEPARTMENT OF HOMELAND SECURITY

Coast Guard

33 CFR Part 117

[Docket No. USCG-2014-0468]

Drawbridge Operation Regulation; Charles River, Boston, MA

AGENCY: Coast Guard, DHS.

ACTION: Notice of deviation from drawbridge regulation.

SUMMARY: The Coast Guard has issued a temporary deviation from the operating schedule that governs the operation of the Craigie Bridge across the Charles River, mile 1.0, at Boston, Massachusetts. The deviation is necessary to allow the bridge to remain in the closed position for two hours to facilitate a public event; the Boston Pops Fireworks Spectacular.

DATES: This deviation is effective between 11 p.m. on July 4, 2014 through 1 a.m. on July 5, 2014.

ADDRESSES: The docket for this deviation, [USCG-2014-0468] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. John McDonald, Project Officer, First Coast Guard District, john.w.mcdonald@uscg.mil, or (617) 223-8364. If you have questions on viewing the docket, call Cheryl Collins, Program Manager, Docket Operations, telephone 202-366-9826.

SUPPLEMENTARY INFORMATION: The Craigie Bridge has a vertical clearance of 15 feet at normal pool elevation above the Charles River Dam. The existing drawbridge operating regulations are found at 33 CFR 117.591(e).

The Massachusetts Department of Transportation, requested a bridge closure to facilitate a public event, the July 4th Boston Pops Fireworks Spectacular.

Under this temporary deviation, the Craigie Bridge may remain in the closed position from 11 p.m. on July 4, 2014 through 1 a.m. on July 5, 2014. Vessels that can pass under the bridge in the closed position may do so at all times.

The Charles River supports seasonal recreational vessel traffic. There are no alternate routes. The bridge can be opened in the event of an emergency.

In accordance with 33 CFR 117.35(e), the drawbridge must return to its regular operating schedule immediately at the end of the effective period of this temporary deviation. This deviation from the operating regulations is authorized under 33 CFR 117.35.

Dated: June 6, 2014.
C.J. Bisignano,
Supervisory Bridge Management Specialist, First Coast Guard District.

[FR Doc. 2014-14160 Filed 6-16-14; 8:45 am]

BILLING CODE 9110-04-P